ELECTION ASSISTANCE COMMISSION

Sunshine Act Meeting; Withdrawal

AGENCY: U.S. Election Assistance Commission (EAC).

ACTION: Sunshine Act Notice; Notice of Public Roundtable Agenda, Withdrawal.

SUMMARY: This action withdraws the Sunshine Act Notice published in the Federal Register on July 11, 2022, U.S. Election Assistance Commission Roundtable Discussion: Disability and the Digital Divide in The Voting Process.

DATES: As of July 8, 2022, the Sunshine Act Notice published in the Federal Register on July 11, 2022 (87 FR 41117) is withdrawn.

FOR FURTHER INFORMATION CONTACT: Kristen Muthig, Telephone: (202) 897-9285, Email: kmuthig@eac.gov.

Amanda Joiner,
Acting General Counsel, U.S. Election Assistance Commission.

[FR Doc. 2022-15067 Filed 7-11-22; 4:15 pm]

BILLING CODE P